DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Pilot Testing of Outcome Measures in Programs Providing Services to Persons Who are Homeless and Have Serious Mental Illnesses—New—SAMHSA's Center for Mental Health Services (CMHS) provides funds to states and territories to provide services to individuals who are homeless and have serious mental illnesses. These services enable persons who are homeless and have serious mental illnesses to be placed in appropriate housing situations and linked to mental health services. To comply with requests for client outcome data, State and local providers have sought measures which could help them more effectively monitor and manage their programs as well as demonstrate program effectiveness.

Interest in performance measurement and evaluation of policies, programs and individual services has increased dramatically with the passage of the Government Performance and Results Act (GPRA) in 1993. GPRA focuses new attention on the quality of outcome measures used to collect information about publicly funded programs. Programs that provide services to persons who are homeless and have serious mental illnesses are facing greater need to document their effectiveness. These outcome data will ultimately be used in responding to Congressional and HHS oversight, GPRA requirements, and the requests of other governmental levels, managed care companies, and private funding sources.

The project will test the appropriateness and feasibility of selected indicators to measure the outcome of services to persons who are homeless and have serious mental illnesses. Outcome measures to be evaluated include housing status, sobriety or drug-free status, mental health treatment status, enrollment in an educational program, and employment.

In addition, the project will evaluate process measures pertaining to outreach, service delivery and linkage stages of intervention. These process indicators include the type of contact (i.e., referrals, walk-ins, fixed outreach, and mobile outreach); whether the person contacted agreed to services, reasons for any non-enrollment, and referral to, and provision of, specific services.

The project will test these outcome and process measures in a total of approximately six provider agencies in each of five participating States. The findings of the pilot test will serve as the basis for recommendations for a voluntary national implementation of data collection in similar programs, nationwide. It will also test the feasibility of compiling such data in a central data collection point.

Local providers will report information on services provided to individuals served. Providers will report aggregate information from their records for all new clients during a one-month period. Information will be reported on the initial client contact, on services clients receive over the next six months and on client outcomes at the end of six months. In addition, half of the provider agencies will report client followup information at a period 60 days after the conclusion of the six-month period. It is anticipated that this information will be collated from existing provider records. Data will be submitted to the central data point in aggregate form, not by individual client. Projected response burden for the project is summarized in the table below.

| Estimated number of respondents | Estimated number of responses per respondent | Average burden hours per response | Estimated total annual burden hours requested
Initial and six-month aggregate report | 30 | 1 | 10 | 300
Follow-up aggregate report | 15 | 1 | 10 | 150
Total | 30 |  |  | 450

Send comments to Nancy Pearce, SAMHSA Reports Clearance Officer, Room 16-105, Parklawn Building, 5600 Fishers Lane, Rockville, MD 20857. Written comments should be received within 60 days of this notice.

Dated: December 29, 2000.
Richard Kopanda,
Executive Officer, SAMHSA.

[FR Doc. 01-309 Filed 1-4-01; 8:45 am]

BILLING CODE 4162-20-P